FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—06/16/2008
20081021 | CME Group Inc. | NYMEX Holdings, Inc. | NYMEX Holdings, Inc.
20081281 | The Hearst Family Trust | NewCo, LLC | NewCo, LLC.
20081312 | JPMorgan Chase & Co. | Caxton-Iseman (NAHP), L.P. | Caxton-Iseman (NAHP), L.P.
20081315 | First BanCorp | CG Investor, LLC | DaimlerChrysler Financial Services Caribbean, LLC.
Transactions Granted Early Termination—06/17/2008
20081274 | Illinois Tool Works, Inc. | Coller International Partners IV-D, L.P | QSA Global, Inc.
20081275 | ING Groep N.V. | State Street Corporation | CitiStreet LLC.
20081276 | ING Groep N.V. | Citigroup Inc. | CitiStreet LLC.
20081310 | Bain Capital X, L.P. | American Capital Strategies, Ltd. | Contec Holdings, Ltd.
20081313 | The Goldman Sachs Group, Inc. | Bank of America Corporation | CIVC Partners IIA, L.P.
Transactions Granted Early Termination—06/18/2008
20081308 | Sageview Capital Master, L.P. | EverBank Financial Corp | EverBank Financial Corp.
20081327 | Providence Equity Partners V L.P. | Education Management Corporation | Education Management Corporation.
Transactions Granted Early Termination—06/20/2008
20081306 | Lehman Brothers Partners IV L.P. | Angelica Corporation | Angelica Corporation.
20081317 | S.A.C. Private Equity Investors, L.P. | Koninklijke Philips Electronics N.V. | MedQuist Inc.
20081319 | Carousel Capital Partners Ill L.P. | Xinhua Finance Limited | Mergent, Inc.
20081320 | Great Wisconsin Credit Union | Summit Credit Union | Summit Credit Union.
20081324 | Leeds Equity Partners IV, L.P. | Education Management Corporation | Education Management Corporation.
20081326 | Newhouse Broadcasting Corporation | Discovery Communications, Inc. | Discovery Communications, Inc.
20081328 | GS Capital Partners V, L.P. | Education Management Corporation | Education Management Corporation.
20081332 | Emerson Electric Co. | General Equipment and Manufacturing Company, Inc | General Equipment and Manufacturing Company, Inc.
20081339 | Wellspring Capital Partners IV, L.P. | NC Limited Partner Holdings, LLC | Cleaver-Holdings, Inc.
20081344 | Johnson Controls, Inc. | Julie Nguyen Brown | Plastic Engineered Products, Inc.
20081348 | Jones Lang LaSalle Incorporated | Staubach Holdings, Inc. | Staubach Holdings, Inc.
20081349 | TP Group 2007-B, L.P. | Walter S. Lutz, Jr. | Signicast Corporation.
Transactions Granted Early Termination—06/23/2008
20081242 | Cablevision Systems Corporation | NMG Company, LLC | NMG Company, LLC.
20081279 | SPO Partners II, L.P. | Reilly Family Limited Partnership | Lamar Advertising Company.
Transactions Granted Early Termination—06/24/2008
20081272 | Ashland Inc. | Air Products and Chemicals, Inc. | Air Products and Chemicals, Inc.
20081298 | USRG Power & Biofuels Fund II, L.P | Renewable Energy Group, Inc. | Renewable Energy Group, Inc.
20081307 | XTO Energy Inc. | Timothy C. Headington | Headington Oil Company LLC. Nesson Gathering System, LLC.
20081316 | Macquarie Group Limited | Express Energy Services Holding, LP | Express Energy Services Holding, LP.
20081323 | Hologic, Inc. | Third Wave Technologies, Inc. | Third Wave Technologies, Inc.
20081330 | Phillip Ean Cohen | Value Financial Services, Inc. | Value Financial Services, Inc.
20081335 | Sierra Pacific Resources | Reliant Energy, Inc. | Reliant Energy Asset Management, LLC. Reliant Energy Wholesale Generation, LLC.
20081336 | Societe Cooperative Agricole Champagne Cereales | Archer-Daniels-Midland Company | ADM Malting, LLC.
20081361 | Olympus Growth Fund IV, L.P | Ernest Edward & Ann Zinke | Ann's House of Nuts, Inc.
Transactions Granted Early Termination—06/25/2008
20081305 | GulfMark Offshore, Inc. | Rigdon Marine Holdings, L.L.C. | Rigdon Marine Corporation.
20081342 | TPF II, L.P. | Dynegy Inc. | Rolling Hills Generating, LLC.
20081352 | Burger King Holdings, Inc. | Michael Simmonds and Linda Simmonds | Simmonds Restaurant Management, Inc. SRF Holdings L.L.C. SR of Iowa, L.L.C.
Transactions Granted Early Termination—06/26/2008
20080269 | Banner Health | Sun Health Corporation | Sun Health Corporation. Sun Health Research Institute.
20081333 | FTI Consulting, Inc. | TOP-2005, LLC | Attenex Corporation.
Transactions Granted Early Termination—06/27/2008
20081257 | Comtech Telecommunications Corp. | Radyne Corporation | Radyne Corporation.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E8-24649 Filed 10-17-08; 8:45 am]

BILLING CODE 6750-01-M